DEPARTMENT OF HEALTH AND HUMAN SERVICES

Center for Disease Control and Prevention

[Program Announcement 00086]

Cooperative Agreements for National Networks for Tobacco Prevention and Control; Notice of Availability of Funds

A. Purpose

The Centers for Disease Control and Prevention (CDC) announces the availability of funds for fiscal year (FY) 2000 for cooperative agreements with organizations that can work with the following eight (8) priority populations: 1. African-Americans (AAs); 2. Hispanics/Latinos (H/L); 3. Asian Americans/Pacific Islanders (AAPIs); 4. American Indians/Alaskan Natives (AI/AN); 5. women; 6. gays/lesbians; 7. low socioeconomic status (SES) adults; and, 8. young people to plan, initiate, coordinate, and evaluate tobacco use prevention and control activities to reduce tobacco use in their respective priority population. CDC intends to award cooperative agreements to organizations that can become an integral part of a broad national strategy to prevent and reduce the use of tobacco and exposure to environmental tobacco smoke.

CDC is committed to achieving the health promotion and disease prevention objectives of “Healthy People 2010,” a national activity to reduce morbidity and mortality and improve the quality of life. This announcement is related to the focus area of Tobacco Use. For the conference copy of “Healthy People 2010”, visit the Internet site: <http://www.health.gov/healthypeople>. Additionally, the program relates to the Department of Health and Human Services' (DHHS) initiatives to eliminate the disparities in health status and health outcomes among populations.

The purpose of the awards is to establish a Network of national organizations among the eight priority populations that can plan, initiate, coordinate, and evaluate tobacco use prevention and control activities to reduce tobacco use in their respective priority population and to facilitate the following: 1. creation of national Networks in which multiple organizations can work together to decrease tobacco use in their respective priority populations; 2. building and strengthening capacity and infrastructure within organizations and their Networks so they can mobilize constituents and the public to implement tobacco control efforts; 3. identification of culturally competent strategies and opportunities to reach and impact the priority populations about tobacco control and prevention; and, 4. initiation and expansion of effective tobacco control measures and initiatives to educate Network members and the public.

B. Eligible Applicants

Applications may be submitted by public and private nonprofit organizations and by governments and their agencies; that is, universities, colleges, research institutions, hospitals, other public and private nonprofit organizations, States and local governments or their bona fide agents, and federally recognized Indian tribal governments, Indian tribes, or Indian tribal organizations.

Minimum Requirement

Eligible organizations must meet ALL of the criteria listed below and provide evidence of eligibility by attaching a copy of Addendum 5, Eligibility Certification Form to the application proposal.

Eligibility Criteria

1. Demonstrate that the applicant has at least two years experience in operating and administering coordinated tobacco control or other public health programs that serve their priority population on a regional (multi-state) or national scale.

2. Demonstrate a primary relationship to one of the priority populations listed above. A primary relationship is one in which there is a documented history of assisting, serving or representing the priority population as the most important component of the organization's mission.

3. Describe the specific agencies, organizations and individuals with whom collaboration is being conducted and whom you will invite to join the national Network. In addition, list up to 10 stakeholders that you perceive as most critical for planning and implementing your five-year vision. Describe why each is important.

4. Provide evidence of collaborative relationships with at least two (2) other organizations on the development and implementation of this program.

5. Provide supporting documents and/or letters of support from other potential agency and/or organizational partners.

6. Document that at least 51 percent of persons on the governing board of the lead organization are members of or primarily serve the priority population.

7. For those applicants applying as a private, nonprofit organization, proof of tax exempt status must be provided with the application. Tax-exempt status is determined by the Internal Revenue Service (IRS) Code, Section 501(c)(3).

Note: Public Law 104-65 states that an organization described in section 501 (c)(4) of the Internal Revenue Code of 1986 that engages in lobbying activities is not eligible to receive Federal funds constituting an award, grant, cooperative agreement, contract, loan or any other form.

Pre-Application Telephone Conference

Applicants are invited by CDC to participate in a pre-application technical assistance telephone conference June 15, 2000 promptly at 2 p.m. (Eastern time) to discuss: programmatic issues regarding this program; funding availability for the eight priority population categories; suggested collaborations/partners; how to apply; and questions regarding the content of the program announcement. This telephone conference is expected to last one hour. The conference name is Tobacco. The telephone bridge number for Federal participants is 404-639-3277; for not-Federal participants call 1-800-311-3437. Participants will need to enter the following conference code when prompted to be connected 984402. All questions and comments will be recorded and published on the Internet at http://www.cdc.gov/funding as an attachment to this program announcement.

C. Availability of Funds

Approximately $3,000,000 is available in FY 2000 to fund approximately eight (8) awards (approximately 1 award in each priority population.) It is expected that the average award will be $330,000 ranging from $250,000 to $400,000. It is expected that the awards will begin on or about September 30, 2000, and will be made for a 12-month budget period within a project period of up to five (5) years. Funding estimates may change in subsequent years.

Continuation awards within an approved project period will be made on the basis of satisfactory progress as evidenced by required reports and the availability of funds.

Use of Funds

Funds cannot be used for construction or renovation, to purchase a facility to house project staff or carry out project activities, to support direct patient care, or to supplant existing support.

Although the applicant may subcontract with other organizations, a substantial portion of the activities (including program management and operations) for this project must be performed by the applicant.

D. Program Requirements

In conducting activities to achieve the purpose of this program, the recipient will be responsible for conducting a range of activities under l. (Recipient Activities), and CDC will be responsible for the activities under 2. (CDC Activities) below.

1. Recipient Activities

a. Develop a national Network of organizations to facilitate the collection and dissemination of general, scientific, and health-related information about tobacco.

b. Provide a mechanism for accessing tobacco control policies, materials, and assets of Network members.

c. Participate in a system for communicating with members of the Network.

d. Train Network members in capacity building and infrastructure development. This can include establishing ways to provide mentorship experiences, as well as assisting Network members in identifying tobacco control information and resources from States, foundations, and other sources.

e. Develop and disseminate reports that identify and describe strategies and opportunities for reaching and/or impacting the identified population vis-a-vis in the four tobacco control and prevention priority goal areas. See Addendum 2—Background.

f. Develop a National data base of tobacco prevention and control experts who can work with Network members to provide training and technical assistance to the priority populations. Assist in arranging linkages with these experts.

g. Provide leadership in the development, operation and administration of tobacco-related initiatives for Network members and on issues related to tobacco use prevention and control within the priority population. Activities may include providing technical assistance on the development of materials that are culturally competent as well as identifying opportunities to train constituents and others to strategically use the media, media advocacy, and other communications strategies.

h. Provide leadership in the development, implementation, and evaluation of an innovative program that addresses identified need(s) within the priority population and coincides with Healthy People 2010 objectives to reduce tobacco use.

i. Establish a working relationship with state-based tobacco control programs to facilitate collaboration with priority populations served by the Network.

j. Develop articles for publication in peer-reviewed journals and/or case studies and presentations for national/regional meetings, (e.g., National Tobacco Prevention and Control Conference, Tobacco Training Institute, and regional conferences).

k. Plan workshops, trainings and skill building to increase capacity to understand and address issues and implement program activities.

l. Conduct a joint Network activity to coincide with a national conference, issue, or event such as World No Tobacco Day, the Great American Smokeout, the release of Surgeon General's Reports, MMWRs, etc.

m. Conduct both process and outcome evaluations to determine if Annual Action Plan objectives were met and to measure the effectiveness of major activities.

n. Provide a full-time employee to direct and coordinate proposed activities.

2. CDC Activities

a. Provide consultation and technical assistance in the planning, implementation and evaluation of program activities.

b. Provide up-to-date information that includes diffusion of best practices and current research and data in areas of tobacco use prevention and control.

c. Facilitate communication and activities among organizations including holding meetings, conferences and conference calls.

d. Assist in planning workshops, trainings and skill building to increase capacity to understand and address issues and implement program activities.

e. Support the development and maintenance of communications and foster the transfer of information, successful prevention interventions and program models between the grantees, the States and national partners.

E. Application Content

Letter of Intent

By postmarked date June 22, 2000 submit a letter of intent (LOI) to the Grants Management specialist identified in the “Where to Obtain Additional Information” section of this announcement. The LOI must identify the name, address, telephone number and email address for the applicant organization. Identify possible organizations of collaboration; the principal investigators name, business address and telephone number; and, the priority population served. This information will be used to enable CDC to determine the level of interest in this announcement.

Applications

Use the information in the Program Requirements, Other Requirements, Evaluation Criteria and information below to develop the application content. Your application will be evaluated on the evaluation criteria listed, so it is important to follow them in laying out your program plan. The narrative should be no more than 20 double-spaced pages, printed on one side, with one inch margins, and unreduced font.

Applications submitted should include:

1. Executive Summary (3-4 Pages and Addendums 5 and 8)

a. Describe eligibility—type of organization and the priority population served;

b. Describe need for the project;

c. Describe applicant's capability to implement the proposed project(s)/activities;

d. Describe major proposed objectives and activities;

e. Provide a list of proposed organizations that will be included in the Network. See Addendum 7 in the application package for a sample of the matrix format.

f. Completed and signed copy of Addendum 5 in the application packet. Eligibility Certification Form.

2. Narrative (Not More Than 20 Pages)

a. Need

(1) Describe the need for tobacco prevention and control in the specified priority population.

(2) Describe the need for and benefits of convening a tobacco control and prevention national Network of organizations serving the priority population.

(3) Describe the feasibility of developing programs to meet the needs of the specified priority population.

b. Capacity

Describe relevant experience at the National, Regional and State levels that demonstrate the ability, capacity, and state of readiness to perform the program projects/activities, including but not limited to:

(1) Experience facilitating, building and maintaining workgroups, coalitions, and Networks. Include: (a) type of constituents; (b) number of constituents; and (c) location of constituents (intercity, rural, multi-state).

(2) Experience that will demonstrate the capacity and state of readiness to form linkages with public and private agencies including Federal agencies, State and local health departments, and community-based organizations.

(3) Experience in providing leadership in developing, operating and administering health-related programs, campaigns, and trainings within the respective priority population. Be specific (include dates and number of years) about experience with developing and implementing tobacco prevention and control initiatives and whether your public health experience has been at a local, State, multi-state or national level.

(4) Experience, in general, working with the priority population.

(5) Describe the applicant's organizational structure, and how that structure can support the development of a tobacco control agenda and Network. Submit a copy of the organizational chart.

(6) Demonstrate that the applicant has at least two years experience in operating and administering coordinated tobacco control or other public health programs that serve their priority population on a regional (multi-state) or national scale.

(7) Document that at least 51 percent of persons on the governing board of the lead organization are members of or primarily serve the priority population.

(8) Submit a copy of the applicant's tobacco control policy or a letter of commitment from the organization's President or Executive Director to develop one.

(9) Submit a copy of the organization's purpose, mission and goals.

(10) Submit a copy of the tax-exempt status under Section 501 (c)3, if applicable. (Addendum 5)

(11) Show evidence of capacity to carry out fiduciary responsibilities over administration and management of projects.

c. Five-Year Vision

Describe your five-year vision for achieving the tobacco prevention and control goals and objectives you have identified. Incorporate Healthy People 2010 Objectives for decreasing tobacco use, recommendations from Surgeon Generals' reports, (if applicable to the priority population), and your vision for decreasing tobacco-related health disparities within the priority populations.

d. Annual Action Plan (AAP)

Provide a narrative that describes your annual action plan. In addition to the narrative, applicants are encouraged to use the AAP format included as Addendum 6 to summarize the key elements of the plan.

The AAP should include the following:

(1) Objectives—state SMART objectives, provide: Specific; Measurable; Achievable; Relevant; and Time-phased objectives to be accomplished during the first year. Describe possible barriers to or facilitators for reaching each objective

(2) Strategies and activities: For each objective, describe the strategies to be used and activities (in detail) to be conducted to meet the objectives and accomplish the recipient activities. Include, at a minimum, the following:

(a) Describe plans to establish a national Network, and include the types of partners and organizations to be recruited, and the recruiting process.

(b) Describe the process for developing a report that identifies and describes strategies and opportunities to reach and impact the priority population around tobacco control and prevention and the four goal areas in the priority population.

(c) Describe how the recipient will build the capacity of Network members.

(3) Timeline: Provide a timeline that identifies major activities and assigns approximate dates for their inception and completion.

(4) Tracking progress: Provide indicators of how you will monitor and track progress toward accomplishing activities.

(5) Responsible party: What person or party is responsible for overseeing the activity.

The annual action plan may include the following:

(1) A plan to establish a national Network, and include the types of partners and organizations to be recruited, and the recruiting process.

(2) The process for developing a report that identifies and describes strategies and opportunities to reach and impact the priority population around tobacco use prevention and control.

(3) The methods that will be used to build the capacity of Network members.

(4) Responsible party for each activity. Designate who among the collaborative will oversee the process.

(5) Timelines—identify in what quarter(s) major activities will be conducted.

(6) Evaluation indicators—Provide indicators of how you will monitor and track progress toward accomplishing activities.

e. Project Management and Staffing Plan

(1) Describe how you will manage the project to accomplish recipient activities. Identify challenges you expect will arise and how you will problem solve to overcome them.

(2) Describe the proposed project staffing. Staffing should include the commitment of at least two full-time staff members to provide direction for the proposed activities.

(3) Demonstrate that staff members have the professional background, experience, and organizational support needed to fulfill the proposed responsibilities. Include curriculum vitae (limit to 2 pages) for each staff member and job descriptions for staff not yet identified.

(4) If other organizations (through contracts or in kind services) will participate in the collaborative and proposed activities, provide the name(s) of the organization(s), the capacity of the organization's staff, and their roles in carrying out the proposed activities.

f. Collaborative and Network Activities

(1) Describe the specific agencies, organizations and individuals with whom collaboration is being conducted and whom you will invite to join the national Network. In addition, list up to 10 stakeholders that you perceive as most critical for planning and implementing your five-year vision. Describe why each is important.

(2) Describe how collaborators were and will be involved in designing, implementing and providing input into activities. Be specific about their role and the activities in which you will seek collaboration.

(3) Provide evidence of collaborative relationships with at least two (2) other organizations on the development and implementation of this program.

(4) Provide supporting documents and/or letters of support from other potential agency and/or organizational partners.

g. Evaluation of the Annual Action Plan Goals and Objectives

Provide a description of the evaluation and monitoring process to be used to track and measure progress in meeting objectives in the annual action plan. The evaluation plan should include the means of tracking and measuring the objectives, activities, and the collaborative work with Network partners, and any other relevant process or outcome measures. Describe how the results will be reported and used. Designate who will oversee the evaluation design and process.

h. Budget and Accompanying Justification

Provide a line item budget and detailed justification for the first year. The budget should be consistent with stated goals and planned activities outlined in the annual action plan. To the extent necessary applicants are encouraged to include budget items for the following:

(1) If needed—a computer, modem, communicating software, and a dedicated telephone line to support routine participation in accessing and downloading information and communicating with partners via the Internet.

(2) Travel for the following meetings:

(a) Two individuals to participate in the annual three-day National Tobacco Control Conference;

(b) Two individuals for two trips to Atlanta to attend a two-day CDC sponsored training or technical assistance workshop;

(c) Two individuals to attend the five-day CDC Tobacco Use Training Institute.

(d) One individual to attend up to a three-day regional training in South Carolina

(e) Travel for members to attend one to two Network meetings. Location will be determined by the applicant.

If proposed contractors are known at the time of the application, provide the following:

(a) Name of contractor/consultant

(b) Method of selection

(c) Scope of service

(d) Period of performance

(e) Detailed budget

(f) Method of accountability

F. Submission and Deadlines

Letter of Intent

By postmarked date June 22, 2000, submit a letter of intent (LOI) to the Grants Management specialist identified in the “Where to Obtain Additional Information” section of this announcement. This information will be used to enable CDC to determine the level of interest in this announcement.

Application

Submit the original and two copies of PHS 5161-1 (OMB 0937-0189). By postmarked date July 17, 2000, submit the application and appropriate information addressing sections 1 and 2 below to the Grants Management Specialist identified in the “Where to Obtain Additional Information” section of this application.

Deadline: Applications will be considered as meeting the deadline if they are either:

(a) Received on or before the deadline date; or

(b) Postmarked on or before the deadline date.

(Applicants must request a legibly dated U.S. Postal Service postmark, Private metered postmarks shall not be acceptable as proof of timely mailing)

Late Applications: Applications which do not meet the criteria in (a) or (b) above are considered late applications, will not be considered, and will be returned to the applicant.

G. Evaluation Criteria

Each application will be evaluated individually against the following criteria by an independent review group appointed by CDC.

1. Need (10 Percent)

The extent to which the applicant identifies and justifies the need for tobacco prevention and control, and includes data and other supporting evidence of tobacco use in the priority population and problems involving environmental tobacco smoke, access to tobacco, tobacco industry advertising, tobacco use cessation and/or tobacco-related health disparities within the priority population.

The extent to which the applicant describes how a national Network of partners can help advance the tobacco control movement within the priority population.

2. Capacity (25 Percent)

The extent to which the applicant demonstrates the capacity and ability and state of readiness of their organization and collaborators to establish and maintain a national Network, and to facilitate building capacity of Network members, producing a report, and developing a major tobacco control initiative.

a. The extent to which the applicant describes the history, nature, and its relevant experience in organizing and facilitating the work of large groups.

b. The extent to which the applicant describes its linkages with Federal agencies, State and local health departments, and community-based organizations.

c. The extent to which the applicant and members of the collaborative document its experiences and successes in operating and/or administering a tobacco control or other public health program serving the priority population. The extent to which the experience is on a National, Regional or State level. Two years of relevant experience is needed.

d. Document that at least 51 percent of persons on the governing board of the lead organization are members of or primarily serve the priority population.

e. The extent to which the applicant documents its experiences and successes in the fiduciary administration and management of comparable projects.

f. The extent to which the applicant and members of the collaborative demonstrate a primary and working relationship with the priority population to achieve a desired outcome.

g. The extent to which the applicant or organizations making up the collaborative have at least two years experience as the lead or organizing body charged with convening multiple organizations.

h. The extent to which the applicant demonstrates that the organizational structure, mission, and policy, (or in the absence of a policy—a letter from the Director committing to the development of a tobacco control policy), will support the purpose of this project.

3. Five-year Vision (5 Percent)

The extent to which the applicant articulates the vision, seeks meaningful changes for a five-year period, and ties the vision to the Healthy People 2010 Objectives.

4. Annual Action Plan (15 Percent)

a. The extent to which the objectives are realistic and related to identified needs and purpose of the program.

b. The extend to which activities are realistic and feasible and will help accomplish the objectives.

c. The extent to which there are realistic plans to establish a national Network, a realistic process to develop and disseminate reports that identify and describe strategies and opportunities for reaching and/or impacting the identified population.

5. Collaborative and Network Activities (20 Percent)

a. The extent to which the applicant formed and worked with a collaborative of at least 2 other organizations in planning the application, and provides memoranda of agreement or other documents as evidence of agreed-upon collaborative relationships.

b. The extent to which the applicant will involve others in planning, implementing and evaluating activities throughout the project period.

c. The extent to which the applicant proposes to be inclusive and to recruit organizations into the Network with diverse skills and knowledge and that serve diverse populations.

d. The extent to which the applicant includes commitment letters and letters of support from diverse groups of partners, including organizations with experience in tobacco control.

e. The extent to which the applicant proposes to work with State tobacco control programs to reach the primary priority population.

6. Project Management and Staffing Plan (15 Percent)

a. The extent to which the applicant identifies staff that have the responsibility, capability, and authority to carry out the activities, as evidenced by job descriptions, curriculum vitae, and descriptions or memorandum of understandings with collaborating agencies.

b. The extent to which the plan to manage the project and to overcome challenges is logical, resourceful, and adequate to accomplish the purpose of the project.

7. Evaluation (10 Percent)

The extent to which the applicant realistically and adequately proposes to measure progress in tracking and meeting objectives and presents a reasonable plan for obtaining data, reporting the results and using the results for programmatic decisions.

8. Budget and Accompanying Justification (Not Scored)

The extent to which the budget is reasonable, itemized, clearly justified and consistent with the work plan and intended use of funds.

H. Other Requirements

Technical Reporting Requirements

Provide CDC with the original plus two copies of:

1. Progress reports (semiannual)

2. Financial status report, no more than 90 days after the end of the budget period.

3. Final financial report and performance report, no more than 90 days after the end of the project period.

Send all reports to the Grants Management Specialist identified in the “Where to Obtain Additional Information” section of this announcement.

For descriptions of the following Other Requirements, see Addendum 1 in the application package. Some of the more complex requirements have some additional information provided below:

AR-7—Executive Order 12372 Review

AR-10—Smoke-Free Workplace Requirements

AR-11—Health People 2010

AR-12—Lobbying Restrictions

AR-15—Proof of Non-Profit Status

I. Authority and Catalog of Federal Domestic Assistance Number

This program is authorized under Section 301(a), 317(k)(2), 241(a), and 247b(k)(2) of the Public Health Service Act, as amended. The Catalog of Federal Domestic Assistance number is 93.283.

J. Where To Obtain Additional Information

To receive additional written information and to request an application kit, call 1-888-GRANTS4 (1-888-472-6874). You will be asked to leave your name and address and will be instructed to identify the Announcement number of interest.

If you have questions after reviewing the contents of all the documents, business management technical assistance may be obtained from: Nealean Austin, Grants Management Specialist, Grants Management Branch, Procurement and Grants Office, Centers for Disease Control and Prevention, Room 3000, 2920 Brandywine Road, Atlanta, GA 30341-4146, Telephone number: (770) 488-2754, FAX: (770) 488-2777, Email address: nea1@cdc.gov

This and other CDC announcements can be found on the CDC Homepage Internet address: http://www.cdc.gov.

For program technical assistance, please contact:

Michele Williams, Project Officer, Program Services Branch, Office on Smoking and Health, Centers for Disease Control and Prevention, 4770 Buford Hwy., NE, Atlanta, GA 30341-3717, Telephone number: (770) 488-1207, Email address: muw0@cdc.gov

or

Victor Medrano, Project Officer, Program Services Branch, Office on Smoking and Health, Centers for Disease Control and Prevention, 4770 Buford Hwy., NE, Atlanta, GA 30341-3717, Telephone number: (770) 488-1125, Email address: vdm6@cdc.gov

Dated: May 26, 2000.
John L. Williams,
Director, Procurement and Grants Office, Centers for Disease Control and Prevention (CDC).

[FR Doc. 00-13799 Filed 6-1-00; 8:45 am]

BILLING CODE 4163-18-P